OFFICE OF PERSONNEL MANAGEMENT

Submission for Review: 3206-0144 ; Designation of Beneficiary: Civil Service Retirement System (CSRS), SF 2808

AGENCY: Office of Personnel Management.

ACTION: 30 Day notice and request for comments.

SUMMARY: The Retirement Services, Office of Personnel Management (OPM) offers the general public and other Federal agencies the opportunity to comment on a revised information collection request (ICR), Designation of Beneficiary: Civil Service Retirement System (CSRS), SF 2808.

DATES: Comments are encouraged and will be accepted until October 1, 2020.

ADDRESSES: Interested persons are invited to submit written comments on the proposed information collection to the Office of Information and Regulatory Affairs, Office of Management and Budget, 725 17th Street NW, Washington, DC 20503, Attention: Desk Officer for the Office of Personnel Management or sent via electronic mail to oira_submission@omb.eop.gov or faxed to (202) 395-6974.

FOR FURTHER INFORMATION CONTACT: A copy of this information collection, with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0144) was previously published in the Federal Register on March 23, 2020 at 85 FR 16390, allowing for a 60-day public comment period. The following comment was received for this collection:

“Request that OPM include a clause to allow employees and witnesses to sign this form using their electronic signature PIV/CAC card for continuity of operations, and to aid OPM in electronically processing retirement claims. Also, recommend that OPM permit agencies to certify for employees as most agencies still have a significant number of CSRS employees for continuity of operations.”

Our response is as follows:

“During this pandemic, the continuity of operations has remained smooth in Retirement Services where employees have found and continue to find ways to keep performing their duties during these unprecedented times. OPM is releasing a Benefits Administrative Letter (BAL) providing guidance on submitting retirement applications during COVID-19 operations. The BAL will be posted on OPM's web page soon. We're not currently considering permanent changes due to COVID-19.”

The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 2808 is used by persons covered by CSRS to designate a beneficiary to receive the lump sum payment due from the Civil Service Retirement and Disability Fund in the event of their death.

Analysis

Agency: Retirement Operations, Retirement Services, Office of Personnel Management.

Title: We Need the Social Security Number of the Person Named Below.

OMB Number: 3206-0144.

Frequency: On occasion.

Affected Public: Individual or Households.

Number of Respondents: 2,000.

Estimated Time per Respondent: 15 minutes.

Total Burden Hours: 500 hours.

Office of Personnel Management.
Alexys Stanley,
Regulatory Affairs Analyst.

[FR Doc. 2020-19275 Filed 8-31-20; 8:45 am]

BILLING CODE 6325-38-P